NUCLEAR REGULATORY COMMISSION

[Docket No. 50-483]

Union Electric Company; Notice of Withdrawal of Application for Amendment to Facility Operating License

The U.S. Nuclear Regulatory Commission (the Commission) has granted the request of Union Electric Company (the licensee) to withdraw its December 28, 2007, application for proposed amendment to Facility Operating License No. NPF-30 for the Callaway Plant, Unit 1, located in Callaway County, Missouri.

The proposed amendment would have modified the facility Technical Specifications (TSs) pertaining to TS 3.7.2, “Main Steam Isolation Valves (MSIVs),” by adding the MSIVs bypass valves to the scope of the TS.

The Commission had previously issued a Notice of Consideration of Issuance of Amendment published in the Federal Register on March 25, 2008 (73 FR 15789). However, by letter dated December 10, 2008, the licensee withdrew the proposed change.

For further details with respect to this action, see the application for amendment dated December 28, 2007, and the licensee's letter dated December 10, 2008, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr.resource@nrc.gov.

Dated at Rockville, Maryland, this 18th day of December 2008.
For the Nuclear Regulatory Commission.
Mohan C. Thadani,
Senior Project Manager, Plant Licensing Branch IV, Division of Operating Reactor Licensing, Office of Nuclear Reactor Regulation.

[FR Doc. E8-30945 Filed 12-29-08; 8:45 am]

BILLING CODE 7590-01-P